FEDERAL COMMUNICATIONS COMMISSION

Notice of Public Information Collection(s) Being Reviewed by the Federal Communications Commission

February 23, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 4, 2005. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-0819.

Title: Lifeline Assistance (Lifeline) Connection Assistance (Link-Up) Reporting Worksheet and Instructions (47 CFR 54.400-54.417).

Form No: FCC Form 497.

Type of Review: Revision of a currently approved collection.

Respondents: Individuals or households; business or other for-profit.

Number of Respondents: 1,318,055.

Estimated Time Per Response: .08-42 hours.

Frequency of Response: On occasion, monthly, annually, and other one time reporting requirements, recordkeeping requirement and third party disclosure requirement.

Total Annual Burden: 101,493 hours.

Total Annual Cost: N/A.

Privacy Act Impact Assessment: N/A.

Needs and Uses: In a Report and Order and Further Notice of Proposed Rulemaking in FCC 04-87 (WC Docket No. 03-109, adopted and released in April 2004), the Commission adopts the Joint-Board's recommendation to require all states, including federal default states, to adopt certification procedures to document income-based eligibility for Lifeline/Link-Up enrollment. Because self-certification of income is more difficult to confirm than is a self-certification of program participation, the Commission agreed with the Joint Board that requiring presentation of documentation supporting income eligibility would protect against fraud and abuse. The Commission held similar concerns for continued enrollment in the Lifeline/Link-Up program and required documentation of eligibility for continued enrollment in the program. In conjunction with presentation of income eligibility documentation, the eligible telecommunications carrier (ETC) is required to certify that the ETC has procedures in place to review presented documentation or to certify that it is in compliance with the state requirements established to review income eligibility documentation. ETCs must retain records of their certifications. In addition, the applicant is required to certify the accuracy of the state household income and the number of persons in the household. ETCs are required to collect and retain these certifications. The FCC Form 497 has also been revised to clarify instructions, add new data elements to the form to clarify specific requirements and reformatted for ease of completing. In addition to the certification and verification requirements noted above, the Commission will issue a voluntary survey to gather data and information about state Lifeline/Link-Up programs. This will enable the Commission to make more informed decisions in any future Commission orders.

Federal Communications Commission.
Marlene H. Dortch,
Secretary.

[FR Doc. 05-4248 Filed 3-3-05; 8:45 am]

BILLING CODE 6712-01-U